DEPARTMENT OF ENERGY

Federal Energy Regulatory Commission

Sunshine Act Meeting

The following notice of meeting is published pursuant to section 3(a) of the government in the Sunshine Act (Pub. L. 94-409), 5 U.S.C. 552b:

AGENCY HOLDING MEETING: Federal Energy Regulatory Commission.

TIME AND DATE: June 20, 2019 10:00 a.m.

PLACE: Room 2C, 888 First Street NE, Washington, DC 20426

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1057th—Meeting—Open Meeting
[June 20, 2019, 10:00 a.m.]
Item No. | Docket No. | Company
Administrative
A-1 | AD19-1-000 | Agency Administrative Matters.
A-2 | AD19-2-000 | Customer Matters, Reliability, Security and Market Operations.
Electric
E-1 | EL08-14-012 | Black Oak Energy, LLC, EPIC Merchant Energy, LP and SESCO Enterprises, LLC v. PJM Interconnection, L.L.C.
E-2 | RD19-3-000 | North American Electric Reliability Corporation.
E-3 | RM19-10-000 | Transmission Planning Reliability Standard TPL-001-5.
E-4 | EL00-95-000 | San Diego Gas & Electric Company v. Sellers of Energy and Ancillary Services Into Markets Operated by the California Independent System Operator Corporation and the California Power Exchange.
| EL00-98-000 | Investigation of Practices of the California Independent System Operator and the California Power Exchange.
| EL01-10-000 | Puget Sound Energy, Inc. v. Sellers of Energy and/or Capacity.
| PA02-2-000 | Fact-Finding Investigation Into Possible Manipulation of Electric and Natural Gas Prices.
| IN03-10-000 | Investigation of Anomalous Bidding Behavior and Practices in Western Markets.
| EL03-165-000 | Portland General Electric Company.
E-5 | EL19-39-000 | Light Power & Gas of NY LLC v. New York Independent System Operator, Inc.
E-6 | ER19-875-000, ER19-875-001 | Midcontinent Independent System Operator, Inc.
E-7 | ER18-614-003, ER18-614-004, ER18-614-005, EL18-173-001 | PJM Interconnection, L.L.C.; Monongahela Power Company; Potomac Edison Company; West Penn Power Company; AEP Indiana Michigan Transmission Company; Inc.; AEP Kentucky Transmission Company; Inc.; AEP Ohio Transmission Company; Inc.; AEP West Virginia Transmission Company, Inc.; Appalachian Power Company; Indiana Michigan Power Company; Kentucky Power Company; Kingsport Power Company; Ohio Power Company; Wheeling Power Company; Commonwealth Edison Company; Commonwealth Edison Company of Indiana, Inc.; Dayton Power and Light Company; Virginia Electric and Power Company; Public Service Electric and Gas Company; PECO Energy Company; PPL Electric Utilities Corporation; Baltimore Gas and Electric Company; Jersey Central Power & Light Company; Potomac Electric Power Company; Atlantic City Electric Company; Delmarva Power & Light Company; UGI Utilities Inc.; Allegheny Electric Cooperative, Inc.; CED Rock Springs, LLC; Old Dominion Electric Cooperative; Rockland Electric Company;Duquesne Light Company; Neptune Regional Transmission System, LLC; Trans-Allegheny Interstate Line Company; Linden VFT, LLC; American Transmission Systems, Incorporated; City of Cleveland, Department of Public Utilities; Division of Cleveland Public Power; Duke Energy Ohio, Inc.; Duke Energy Kentucky, Inc.; City of Hamilton, OH; Hudson Transmission Partners, LLC; East Kentucky Power Cooperative, Inc.; City of Rochelle; ITC Interconnection LLC; Mid-Atlantic Interstate Transmission, LLC; Southern Maryland Electric Cooperative, Inc.; Ohio Valley Electric Corporation.
E-8 | ER15-2028-000, ER15-2028-001 | Southwest Power Pool, Inc.
E-9 | ER15-2115-000, ER15-2115-001 | Southwest Power Pool, Inc.
E-10 | ER17-910-001 | Pacific Gas and Electric Company.
E-11 | ER19-158-002 | Ambit Norheast, LLC.
E-12 | ER17-2323-002 | Midcontinent Independent System Operator, Inc. and Ameren Illinois Company.
E-13 | ER19-283-001 | ALLETE, Inc.
E-14 | ER10-1350-007 | Entergy Services, Inc.
E-15 | EL18-142-001 | Louisiana Public Service Commission v. System Energy Resources, Inc. and Entergy Services, Inc.
E-16 | ER17-1198-000 | Ameren Illinois Company.
Miscellaneous
M-1 | RM19-12-000 | Revisions to the Filing Process for Commission Forms.
Hydro
H-1 | OMITTED. |
H-2 | P-10808-066 | Boyce Hydro Power, LLC.
H-3 | P-2114-300 | Public Utility District No. 2 of Grant County, Washington.
H-4 | P-2290-117 | Southern California Edison.
H-5 | P-14896-001, P-14897-001, P-14898-001, P-14899-001, P-14900-001, P-14901-001, P-14902-001, P-14903-001, P-14904-001, P-14905-001, P-14906-001, P-14907-001, P-14908-001, P-14909-001, P-14910-001, P-14911-001, P-14912-001, P-14913-001, P-14914-001, P-14915-001, P-14916-001, P-14917-001, P-14918-001, P-14919-001, P-14920-001, P-14921-001, P-14922-001, P-14923-001, P-14924-001, P-14925-001, P-14926-001, P-14927-001, P-14928-001, P-14929-001, P-14930-001, P-14931-001, P-14932-001, P-14933-001, P-14934-001, P-14935-001, P-14936-001, P-14937-001, P-14938-001, P-14939-001, P-14940-001, P-14941-001, P-14942-001, P-14943-001, P-14944-001, P-14945-001, P-14946-001, P-14947-001, P-14948-001, P-14949-001, P-14950-001, P-14951-001, P-14952-001, P-14953-001, P-14954-001, P-14955-001. | Algignis, Inc.
H-6 | P-9709-069 | ECOsponsible, LLC.

Issued: June 13, 2019.
Nathaniel J. Davis, Sr.,
Deputy Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2019-13240 Filed 6-18-19; 4:15 pm]

BILLING CODE 6717-01-P